DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 29, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: U.S. Business Income Tax Return.

OMB Control Number: 1545-0123.

Type of Review: Revision of a currently approved collection.

Abstract: These forms are used by businesses to report their income tax liability. The data is used to verify that the items reported on the forms are correct, and also for general statistics use.

Forms: 4255, 8844, 1065-B Schedule K-1, 1120-S Schedule K-1, 1120-L, 8830, 8908, 1120-PC, 1120-REIT, 1120-S Schedule B-1, 5884, 1065-X, 1065-X, 8845, 1120-S Schedule M-3, 1120-IC DISC Schedule P, 1120-F Schedule V, 1120-ND, 1120-PC, 56, 8848, 8900, 1120 Schedule O, 5471 Schedule J Schedule M Schedule O, 1120-L Schedule M-3, 8858 Schedule M, 8865 Schedule K-1 Schedule O Schedule P, 1065-B Schedule K-1, 1066, 1118, 1118 Schedule i, 1118 Schedule J, 1118 Schedule K, 1120, 1120 Schedule D, 1120 Schedule H, 1120 Schedule M-3, 1120 Schedule PH, 1120-F Schedule H, 1120-F Schedule i, 1120-F Schedule M-1 and Schedule M-2, 8938, 8941, 8941, 8947, 926, 926, 966, 970, 976, 982, SS-4 (PR), T (TIMBER), W-8 BEN, W-8 IMY, W-8 IMY, 1120-H, 5471 Schedule J, 5471 Schedule M, 5471 Schedule O, 5472, 5713, 6478, 6627, 6781, 7004, 8023, 7004, 8288-B, 8300, 8404, 8453-B, 8655, 8716, 8932, 8933, 8936, 8937, 8937, 8938, 1120 Schedule B, 1120 Schedule N, 1120 Schedule O, 1120-C, 1120 Schedule G, 5713, 5884-B, 8023, 8050, 8275, 8275-R, 8302, 8308, 8329, 8621-A, 8697, W-8 BEN, 8804, 8804 8805 8813, 8804 Schedule A, 8804 Schedule A, 8804-W, 8804-W, 8810, 8810, 8813, 8816, 8819, 8820, 8822-B, 8824, 8824, 8825, 8826, 8827, 8832, 8833, 8835, 8835, 8842, 8844, 8845, 8846, 8858, 8858, 8858 Schedule M, 8864, 8865, 8865, 8865 Schedule K-1, 8865 Schedule O, 8865 Schedule P, 8866, 8869, 8872, 8873, 8873, 8874, 8875, 8878-A, 8879-B, 8879-C, 8879-I, 8879-PE, 8879-S, 8881, 8882, 8883, 8883, 8886, 8886, 8893, 8894, 973, SS-4, SS-4, SS-4 (PR), T (TIMBER), 972, 1120-L Schedule M-3, 1120-POL, 1120-RIC, 5472, 56, 56F, 5735, 6198, 6198, 6765, 8275, 8283, 8288, 8288, 8453-C, 8453-PE, 8453-S, 8621, 8697, 8911, 8912, 8912, 8916, 8916-A, 8918, 8923, 8918, 8925, 8926, 8926, 8927, 8931, 8902, 8902, 1120 Schedule UTP, 1120-F, 1120-F Schedule S, 1120-IC DISC Schedule K, 1120-IC DISC Schedule Q, 1120-S, 1120-S Schedule D, 1120-S Schedule K-1, 1120-S Schedule M-3, 1120-SF, 1120-W, 1120-X, 4626, 4684, 4684, 4626, 4797, 4797, 4810, 4876-A, 5452, 5471, 5471, 1122, 2438, 5713 Schedule A, 5713 Schedule C, 5735, 5884, 8275-R, 8806, 8838, 1065 Schedule D, 1120-F Schedule M-3, 1120-F Schedule P, 1120-FSC, 8805, 8283, 8609, 8609, 8609-A, 8609-A, 8611, 8621, 8621-A, 8693, 8703, 8903, 8903, 8906, 8907, 8908, 8909, 8910, 8910, 8453-I, 8453-X, 851, 8586, 8594, 8752, 1000, 1042, 1065, 1065 Schedule B-1, 1065 Schedule C, 1066 Schedule Q, 1125-E, 1125-A, 1125-E, 1127, 1128, 1128, 1138, 1139, 1139, 2220, 2220, 2553, 2553, 2848, 2848, 3115, 3115, 3468, 3468, 3520, 3520, 3800, 3800, 4136, 4136, 4255, 4466, 8866, 4562, 4562, 8872, 8896, 8900, 1065 Schedule K-1, 1065 Schedule M-3, 1065-B, 1065 Schedule M-3, 1120-ND, 8949, W-8 BEN-E, 5713 Schedule B, 1120-PC Schedule M-3, 1042, 1120-S Schedule D, 1120-H, 1120-SF, 1120-F Schedule H, 1120-FSC, 1120-F Schedule M-3, 1120-F Schedule S, 1120-F Schedule V, 1120 Schedule D, 1120-F Schedule M-3, 8949, W-8 ECI, 1120-L, 1120-IC DISC, 8936, 8864, W-8 ECI, 8871, 8871, 1065, 1065-B, 1065 Schedule K-1, 1065 Schedule C, 1065 Schedule D, 1066, 1118, 1118 Schedule K, 1118 Schedule J, 1120, 1120-C, 1120-F, 1120-F Schedule P, 1120-F Schedule I, W-8 BEN-E, 8911, 8082, 8082, 1120-REIT, 6478, 1120-RIC, 1120-S, 6765, 1120-PC Schedule M-3, 1120-W, 8834, 8907, 1120 Schedule M-3, 1120 Schedule PH, 1120 Schedule UTP, 1120-FSC Schedule P, 1120-IC DISC.

Affected Public: Businesses or other for-profits, Farms.

Estimated Total Annual Burden Hours: 3,040,000,000.

Title: Investment Interest Expense Deduction.

OMB Control Number: 1545-0191.

Type of Review: Extension without change of a currently approved collection.

Abstract: Internal Revenue Code section 163(d) provides a limitation on individuals, estates, or trusts that paid or accrued interest on investment indebtedness. Form 4952 is used to accumulate a taxpayer's interest from all sources and provides a line-by-line computation of the allowable deduction for investment interest.

Form: 4952.

Affected Public: Individuals or Households.

Estimated Total Annual Burden Hours: 205,596.

Title: Consolidated and Controlled Groups—Intercompany Transactions and Related Rules.

OMB Control Number: 1545-1433.

Type of Review: Extension without change of a currently approved collection.

Abstract: The Treasury regulations require common parents that make elections under Section 1.1502-13 to provide certain information. Section 1.1502 13(f)(5)(ii) provides common parents with an election to avoid potential duplications of gain from certain intercompany distributions and other transactions with respect to stock of members. These elections are designed to provide taxpayers relief from the application of certain provisions of the regulations. These elections must be made by the due date for the consolidated returns (including extensions). The section 1.1502 13(f)(5)(ii) election is made by attaching a statement to the consolidated return. Section 1.1502-13(f)(6)(i)(C) provides for an election to reduce basis in parent stock. The election must be made in a separate statement filed with the consolidated group's tax return. The information will be used to identify and assure that the amount, location, timing and attributes of intercompany transactions and corresponding items are properly maintained. Burden for the collection of information requirements under 1.1502 13(e)(3) and 1.1502 13(c) are being reported under OMB number 1545-0123.

Form: None.

Affected Public: Businesses or other for-profits.

Estimated Total Annual Burden Hours: 1,050.

Title: Revenue Procedure 2015-40, Procedures for Requesting Competent Authority Assistance Under Tax Treaties.

OMB Control Number: 1545-2044.

Type of Review: Extension without change of a currently approved collection.

Abstract: This revenue procedure 2015-40 provides guidance on the process of requesting and obtaining assistance under U.S. tax treaties from the U.S. competent authority, acting through the Advance Pricing and Mutual Agreement Program and the Treaty Assistance and Interpretation Team of the Deputy Commissioner (International), Large Business & International Division of the Internal Revenue Service. This revenue procedure updates and supersedes Rev. Proc. 2006-54, 2006-2 C.B. 1035, and is being issued concurrently with Rev. Proc. 2015-41, 2015-35 I.R.B., which provides guidance with respect to advance pricing agreements.

This revenue procedure also reflects modifications based on continuing internal monitoring of the administrative procedures of the U.S. competent authority to ensure that the administration of U.S. tax treaties is consistently principled, effective, and efficient.

Form: None.

Affected Public: Individuals or Households.

Estimated Total Annual Burden Hours: 9,000.

Title: Form W-14—Certificate of Foreign Contracting Party Receiving Federal Procurement Payments.

OMB Control Number: 1545-2263.

Type of Review: Extension without change of a currently approved collection.

Abstract: Tax on Certain Foreign Procurement, Notice of Purposed Rulemaking, contains proposed regulations under section 5000C of the Internal Revenue Code. The proposed regulations affect U.S. government acquiring agencies and foreign persons providing certain goods or services to the U.S. government pursuant to a contract. This document also contains proposed regulations under section 6114, with respect to foreign persons claiming an exemption from the tax under an income tax treaty. Section 5000C imposes a 2% tax on foreign persons (as defined in section 7701(a)(30)), that are parties to specified Federal procurement contracts with the U.S. government entered into on and after January 2, 2011. This tax is imposed on the gross amount of specified Federal procurement payments and is generally collected by increasing the amount withheld under chapter 3. A Form W-14 must be provided to the acquiring agency (U.S. government department, agency, independent establishment, or corporation) to: Establish that they are a foreign contracting party; and If applicable, claim an exemption from withholding based on an international agreement (such as a tax treaty); or Claim an exemption from withholding, in whole or in part, based on an international procurement agreement or because goods are produced, or services are performed in the United States. A Form W-14 must be provided to the acquiring agency if a foreign contracting party has been paid a specified Federal procurement payment and the foreign contracting party is seeking to claim an exemption (in whole or in part) from the tax imposed by section 5000C. Form W-14 must be submitted when requested by the acquiring agency, whether or not an exemption (in whole or in part) is claimed from withholding under section 5000C.

Form: W-14.

Affected Public: Federal Government.

Estimated Total Annual Burden Hours: 11,840.

Authority: 44 U.S.C. 3501 et seq.

Dated: August 24, 2017.
Jennifer P. Leonard,
Treasury PRA Clearance Officer.

[FR Doc. 2017-18364 Filed 8-29-17; 8:45 am]

BILLING CODE 4830-01-P